DEPARTMENT OF THE INTERIOR

Fish and Wildlife Service

Notice of Availability of the Final Revised Recovery Plan for the Southern Sea Otter (Enhydra lutris nereis)

AGENCY: Fish and Wildlife Service, Interior.

ACTION: Notice of document availability.

SUMMARY: We, the U.S. Fish and Wildlife Service, announce the availability of the final revision of the southern sea otter recovery plan. This species occurs along the central coast of California from Half Moon Bay south to Point Conception.

ADDRESSES: Copies of the final revised recovery plan are available by written request addressed to the Field Supervisor, Ventura Fish and Wildlife Office, 2493 Portola Road, Suite B, Ventura, California 93003. Recovery plans may also be obtained from: Fish and Wildlife Reference Service, 5430 Grosvenor Lane, Suite 110, Bethesda, Maryland 20814, 301-429-6403 or 1-800-582-3421. The fee for the plan varies depending on the number of pages of the plan. This final revised recovery plan will be made available on the World Wide Web at http://www.r1.fws.gov/ecoservices/endangered/recovery/default.htm.

FOR FURTHER INFORMATION CONTACT: Carl Benz at the above Ventura address (telephone 805-644-1766).

SUPPLEMENTARY INFORMATION:

Background

Recovery of endangered or threatened animals and plants is a primary goal of our endangered species program and the Endangered Species Act (Act) (16 U.S.C. 1531 et seq.). A species is considered recovered when the species' ecosystem is restored and/or threats to the species are removed so that self-sustaining and self-regulating populations of the species can be supported as persistent members of native biotic communities. Recovery plans describe actions considered necessary for the conservation of the species, establish criteria for downlisting or delisting listed species, and estimate the time and costs of implementing recovery actions.

The Act requires the development of recovery plans for listed species unless such a plan would not promote the conservation of a particular species. Section 4(f) of the Act requires that public notice and an opportunity for public review and comment be provided during recovery plan development. Information presented during the public comment period has been considered in the preparation of this final revised recovery plan, and is summarized in the appendix to the plan. As we move forward to implement the final recovery plan, we welcome public input and comment regarding our implementation efforts.

The southern (California) sea otter was listed as threatened on January 14, 1977 (42 FR 2968). It is also recognized as a depleted population pursuant to the Marine Mammal Protection Act. Reduced range and population size, vulnerability to oil spills, and the oil spill risk from coastal tanker traffic were the primary reasons listing of the sea otter. The southern sea otter population contains about 2,150 individuals and ranges between Half Moon Bay and Point Conception, California. Approximately 27 otters, including pups, are at San Nicolas Island as a result of translocation efforts to establish an experimental population. After review of new biological information, we, with the assistance of the Southern Sea Otter Recovery Team, drafted a revised recovery plan for public review and comment in 1991. A second draft revision was released for public review in 1996. After review of public comments on those drafts, and review of new technical information regarding oil spill risk to southern sea otters, we, with the assistance of the Southern Sea Otter Recovery Team and technical consultants, completed a new draft revised recovery plan, which was released to the public for comment in January 2000. Public comments were reviewed by the Southern Sea Otter Recovery Team and us, and changes based on these comments are incorporated into this final revised recovery plan.

The objective of the final revised recovery plan is to delist the southern sea otter through implementation of a variety of recovery measures including: Monitoring otter populations; implementing plans to minimize the risk of, and impacts from, oil spills; minimizing incidental and intentional take of sea otters; assessing and minimizing other threats; evaluating the sea otter translocation program; improving captive management techniques; and implementing an outreach program and providing information to the public.

Authority: The authority for this action is section 4(f) of the Endangered Species Act, 16 U.S.C. 1533(f).

Dated: January 29, 2003.
Daniel S. Walsworth,
Acting Manager, California/Nevada Operations Office, Region 1, U.S. Fish and Wildlife Service.

[FR Doc. 03-8060 Filed 4-2-03; 8:45 am]

BILLING CODE 4310-55-P